DEPARTMENT OF TRANSPORTATION

Federal Aviation Administration

14 CFR Part 39

[Docket No. FAA-2016-6897; Directorate Identifier 2015-NM-187-AD]

RIN 2120-AA64

Airworthiness Directives; Bombardier, Inc. Airplanes

AGENCY: Federal Aviation Administration (FAA), DOT.

ACTION: Notice of proposed rulemaking (NPRM).

SUMMARY: We propose to supersede Airworthiness Directive (AD) 2015-03-01, for all Bombardier, Inc. Model CL-600-2B19 (Regional Jet Series 100 & 440) airplanes. AD 2015-03-01 currently requires installing additional attaching hardware on the left and right fan cowl access panels and the nacelle attaching structures. Since we issued AD 2015-03-01, there have been updates to the weight and balance data needed to calculate the center of gravity for affected airplanes. This proposed AD would require weight and balance data to be included in the Weight and Balance Manual and applicable logbooks for airplanes modified per Bombardier Service Bulletin 601R-71-034, Revision B, dated August 1, 2014. The proposed AD would also require the weight and balance data to be used in order to calculate the center of gravity for affected airplanes. We are proposing this AD to prevent damage to the fuselage and flight control surfaces from dislodged engine fan cowl panels, and prevent incorrect weight and balance calculations. Incorrect weight and balance calculations may shift the center of gravity beyond approved design parameters and affect in-flight control, which could endanger passengers and crew.

DATES: We must receive comments on this proposed AD by July 25, 2016.

ADDRESSES: You may send comments by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE., Washington, DC 20590.

• Hand Delivery: U.S. Department of Transportation, Docket Operations, M-30, West Building Ground Floor, Room W12-140, 1200 New Jersey Avenue SE., Washington, DC, between 9 a.m. and 5 p.m., Monday through Friday, except Federal holidays.

For service information identified in this NPRM, contact Bombardier, Inc., 400 Côte Vertu Road West, Dorval, Québec H4S 1Y9, Canada; telephone 514-855-5000; fax 514-855-7401; email thd.crj@aero.bombardier.com; Internet http://www.bombardier.com. You may view this referenced service information at the FAA, Transport Airplane Directorate, 1601 Lind Avenue SW., Renton, WA. For information on the availability of this material at the FAA, call 425-227-1221.

Examining the AD Docket

You may examine the AD docket on the Internet at http://www.regulations.gov by searching for and locating Docket No. FAA-2016-6897; or in person at the Docket Management Facility between 9 a.m. and 5 p.m., Monday through Friday, except Federal holidays. The AD docket contains this proposed AD, the regulatory evaluation, any comments received, and other information. The street address for the Docket Operations office (telephone 800-647-5527) is in the ADDRESSES section. Comments will be available in the AD docket shortly after receipt.

FOR FURTHER INFORMATION CONTACT: Aziz Ahmed, Aerospace Engineer, Airframe and Mechanical Systems Branch, ANE-171, FAA, New York Aircraft Certification Office (ACO), 1600 Stewart Avenue, Suite 410, Westbury, NY 11590; telephone 516-228-7329; fax 516-794-5531.

SUPPLEMENTARY INFORMATION:

Comments Invited

We invite you to send any written relevant data, views, or arguments about this proposed AD. Send your comments to an address listed under the ADDRESSES section. Include “Docket No. FAA-2016-6897; Directorate Identifier 2015-NM-187-AD” at the beginning of your comments. We specifically invite comments on the overall regulatory, economic, environmental, and energy aspects of this proposed AD. We will consider all comments received by the closing date and may amend this proposed AD based on those comments.

We will post all comments we receive, without change, to http://www.regulations.gov, including any personal information you provide. We will also post a report summarizing each substantive verbal contact we receive about this proposed AD.

Discussion

On January 30, 2015, we issued AD 2015-03-01, Amendment 39-18097 (80 FR 7298, February 10, 2015) (“AD 2015-03-01”). AD 2015-03-01 requires installing additional attaching hardware on the left and right fan cowl access panels and the nacelle attaching structures. Since we issued AD 2015-03-01, we have determined it is necessary to update the weight and balance data needed to calculate the center of gravity for affected airplanes.

Transport Canada Civil Aviation (TCCA), which is the aviation authority for Canada, has issued Canadian Airworthiness Directive CF-2014-20R1, dated August 12, 2015 (referred to after this as the Mandatory Continuing Airworthiness Information, or “the MCAI”), to correct an unsafe condition for all Bombardier, Inc. Model CL-600-2B19 (Regional Jet Series 100 & 440) airplanes The MCAI states:

There have been a number of engine fan cowl panel dislodgement incidents reported on the Bombardier CL-600-2B19 aeroplane fleet. The dislodged panels may cause damage to the fuselage and flight control surfaces of the aeroplane. Also, the debris from a dislodged panel may result in runway contamination and has the potential of causing injury on the ground.

Although the majority of the subject panel dislodgements were reported on the first or second flight after an engine maintenance task was performed that required removal and reinstallation of the subject panels, the frequency of the dislodgements indicates that the existing attachment design is prone to human (maintenance) error.

In order to mitigate the potential safety hazard of the subject panel dislodgement, Bombardier had issued Service Bulletin (SB) 601R-71-034 to install additional fasteners for the attachment of the engine fan cowl panels to the nacelle's structure. Compliance of the above SB was mandated by the original issue of [Canadian] AD CF-2014-20 dated 9 July 2014 [which corresponded to FAA AD 2015-03-01].

Bombardier has now revised the SB 601R-71-034 (to Revision C) requiring weight and balance data to be included in the Weight and Balance manual for aeroplanes modified per the subject SB. This revised [Canadian] AD is issued to mandate compliance with SB 601R-71-034, Rev C.

Required actions also include the retained actions of modifying the engine fan cowl panel. You may examine the MCAI in the AD docket on the Internet at http://www.regulations.gov by searching for and locating Docket No. FAA-2016-6897.

Related Service Information Under 1 CFR Part 51

Bombardier, Inc. has issued Bombardier Service Bulletin, 601R-71-034, Revision C, dated May 8, 2015. The service information provides procedures for modifying the fan cowl access panels and the nacelle attaching structures. The service information also provides updated weight and balance data. This service information is reasonably available because the interested parties have access to it through their normal course of business or by the means identified in the ADDRESSES section.

FAA's Determination and Requirements of This Proposed AD

This product has been approved by the aviation authority of another country, and is approved for operation in the United States. Pursuant to our bilateral agreement with the State of Design Authority, we have been notified of the unsafe condition described in the MCAI and service information referenced above. We are proposing this AD because we evaluated all pertinent information and determined an unsafe condition exists and is likely to exist or develop on other products of the same type design.

Costs of Compliance

We estimate that this proposed AD affects 497 airplanes of U.S. registry.

The actions required by AD 2015-03-01 and retained in this proposed AD take about 8 work-hours per product, at an average labor rate of $85 per work-hour. Required parts cost about $5,458 per product. Based on these figures, the estimated cost of the actions that are required by AD 2015-03-01 is $6,138 per product.

We also estimate that it would take about 1 work-hour per product to comply with the basic requirements of this proposed AD. The average labor rate is $85 per work-hour. Based on these figures, we estimate the cost of this proposed AD on U.S. operators to be $42,245, or $85 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing Airworthiness Directive (AD) 2015-03-01, Amendment 39-18097 (80 FR 7298, 8February 10, 2015), and adding the following new AD:

Bombardier Inc.: Docket No. FAA-2016-6897; Directorate Identifier 2015-NM-187-AD.

(a) Comments Due Date

We must receive comments by July 25, 2016.

(b) Affected ADs

This AD replaces AD 2015-03-01, Amendment 39-18097 (80 FR 7298, February 10, 2015) (“AD 2015-03-01”).

(c) Applicability

This AD applies to all Bombardier, Inc. Model CL-600-2B19 (Regional Jet Series 100 & 440) airplanes, certificated in any category, all manufacturer serial numbers.

(d) Subject

Air Transport Association (ATA) of America Code 71, Powerplant.

(e) Reason

This AD was prompted by dislodged engine fan cowl panels. We are issuing this AD to prevent damage to the fuselage and flight control surfaces from dislodged engine fan cowl panels, and prevent incorrect weight and balance calculations. Incorrect weight and balance calculations may shift the center of gravity beyond approved design parameters and affect in-flight control, which could endanger passengers and crew.

(f) Compliance

Comply with this AD within the compliance times specified, unless already done.

(g) Retained Fastener Installation, With Revised Service Information

This paragraph restates the requirements of paragraph (g) of AD 2015-03-01, with revised service information. Within 6,000 flight hours after March 17, 2015 (the effective date of AD 2015-03-01): Install attaching hardware on the left and right fan cowl access panels and the nacelle attaching structures, in accordance with the Accomplishment Instructions of Bombardier Service Bulletin 601R-71-034, Revision B, dated August 1, 2014; or Bombardier Service Bulletin 601R-71-034, Revision C, dated May 8, 2015. As of the effective date of this AD, only Bombardier Service Bulletin 601R-71-034, Revision C, dated May 8, 2015, may be used.

(h) Inserting Weight and Balance Data

Within 6,000 flight hours after the effective date of this AD, revise the applicable Weight and Balance Manual to include the weight and balance data specified in Bombardier Service Bulletin 601R-71-034, Revision C, dated May 8, 2015.

(i) Credit for Previous Actions

This paragraph provides credit for actions required by paragraph (g) of this AD, if those actions were performed before the effective date of this AD using Bombardier Service Bulletin 601R-71-034, dated March 31, 2014; or Service Bulletin 601R-71-034, Revision A, dated April 28, 2014. This service information is not incorporated by reference in this AD.

(j) Other FAA AD Provisions

The following provisions also apply to this AD:

(1) Alternative Methods of Compliance (AMOCs): The Manager, New York ACO, ANE-170, FAA, has the authority to approve AMOCs for this AD, if requested using the procedures found in 14 CFR 39.19. In accordance with 14 CFR 39.19, send your request to your principal inspector or local Flight Standards District Office, as appropriate. If sending information directly to the ACO, send it to ATTN: Program Manager, Continuing Operational Safety, FAA, New York ACO, 1600 Stewart Avenue, Suite 410, Westbury, NY 11590; telephone 516-228-7300; fax 516-794-5531.

(i) Before using any approved AMOC, notify your appropriate principal inspector, or lacking a principal inspector, the manager of the local flight standards district office/certificate holding district office. The AMOC approval letter must specifically reference this AD.

(ii) Global AMOC 15-36, dated August 28, 2015, is approved as an AMOC for the corresponding provisions of this AD.

(2) Contacting the Manufacturer: As of the effective date of this AD, for any requirement in this AD to obtain corrective actions from a manufacturer, the action must be accomplished using a method approved by the Manager, New York ACO, ANE-170, FAA; or Transport Canada Civil Aviation (TCCA); or Bombardier, Inc.'s TCCA Design Approval Organization (DAO). If approved by the DAO, the approval must include the DAO-authorized signature.

(k) Related Information

(1) Refer to Mandatory Continuing Airworthiness Information (MCAI) Canadian Airworthiness Directive CF-2014-20R1, dated August 12, 2015. This MCAI may be found in the AD docket on the Internet at http://www.regulations.gov by searching for and locating Docket No. FAA-2016-6897.

(2) For service information identified in this AD, contact Bombardier, Inc., 400 Côte-Vertu Road West, Dorval, Québec H4S 1Y9, Canada; telephone 514-855-5000; fax 514-855-7401; email thd.crj@aero.bombardier.com; Internet http://www.bombardier.com. You may view this service information at the FAA, Transport Airplane Directorate, 1601 Lind Avenue SW., Renton, WA. For information on the availability of this material at the FAA, call 425-227-1221.

Issued in Renton, Washington, on May 18, 2016.
Dionne Palermo,
Acting Manager, Transport Airplane Directorate, Aircraft Certification Service.

[FR Doc. 2016-12887 Filed 6-7-16; 8:45 am]

BILLING CODE 4910-13-P